SMALL BUSINESS ADMINISTRATION

Committee Management; Notice of Renewal

The Administrator of the U.S. Small Business Administration (SBA) has determined that the renewal of the Audit and Financial Management Advisory Committee is necessary and in the public interest in connection with the performance of duties imposed upon the Administrator, U.S. Small Business Administration by 15 U.S.C. 633. This determination follows consultation with the Management Secretariat, General Services Administration.

Name of Committee: Audit and Financial Management Advisory Committee.

Purpose and Objective: The committee provides recommendations and advice regarding the Agency's financial management, including the financial reporting process, systems of internal controls, audit process and process for monitoring compliance with relevant laws and regulations.

Balanced Membership Plans: The committee consists of at least three (3) members including one Chairperson. Committee membership must be fairly balanced and diverse in terms of occupational background and type of financial expertise.

Duration: Continuing.

Responsible SBA Officials: Jennifer Main, Chief Financial Officer, Office of Chief Financial Officer, U.S. Small Business Administration, 409 3rd Street, SW., Washington, DC 20416.

Dated: December 19, 2005.
Matthew K. Becker,
Committee Management Officer.

[FR Doc. 05-24454 Filed 12-23-05; 8:45 am]

BILLING CODE 8025-01-M